CONSUMER PRODUCT SAFETY COMMISSION

Notice of Second Prehearing Conference; Update

AGENCY: U.S. Consumer Product Safety Commission.

In the Matter of Baby Matters, LLC, CPSC Docket No. 13-1.

Federal Register Citation of Previous Announcement:

Vol. 78, No. 93, Tuesday, May 14, 2013, page 29205.

Announced Time and Date of Second Prehearing Conference: Thursday, May 23, 2013, 11:00 a.m. Eastern.

The prehearing conference scheduled for May 23, 2013 will be continued to a later date, if necessary.

Contact Person For Additional Information: Regina Maye, Paralegal Specialist, U.S. Coast Guard ALJ Program, (212) 825-1230.

Dated: May 22, 2013.
Todd A. Stevenson,
Secretary.

[FR Doc. 2013-12575 Filed 5-24-13; 8:45 am]

BILLING CODE 6355-01-P